DEPARTMENT OF AGRICULTURE

Forest Service

Notice of New Recreation Fees; Federal Lands Recreation Enhancement Act, (Title VIII, Pub. L. 108-447)

AGENCY: Manti-La Sal National Forest, Forest Service, USDA.

ACTION: Notice of New Recreation Fees.

SUMMARY: The Manti-La Sal National Forest is proposing to add the Orange Olsen Administrative Site facilities into the recreation rental program. The facilities proposed for the recreation rental program include: (1) Orange Olsen Dwelling and (2) Orange Olsen Bunkhouse with four trailer pads. The proposal is to charge $60.00 per night at the Dwelling and $40.00 per night at the Bunkhouse. The fee for the Bunkhouse would also include four trailer pads with water and sewer hookups. Visitors will have the option of reserving the Dwelling or the Bunkhouse separately, or the entire site. Fees are assessed based on the level of amenities and services provided, cost of operation and maintenance, and market comparison. Funds from fees would be retained locally and used for the operations and maintenance, and future improvements including historical information on the cabins.

The Orange Olsen Dwelling has a front room, two bedrooms (sleeping up to six people), kitchen, and bathroom with shower. An accessible ramp provides entrance to the back door of the facility. The Orange Olsen Bunkhouse has a combination kitchen/bedroom (sleeping up to four people), bathroom with shower, and four trailer pads with water and sewer hookups. Both of the buildings have photovoltaic (solar) lighting, propane fueled appliances, water, and sewer.

DATES: Send any comments about these fee proposals by December 31, 2013 so comments can be compiled, analyzed and shared with the Utah Bureau of Land Management Recreation Resource Advisory Committee (RRAC). If this fee proposal is approved, it is anticipated that the Orange Olsen Administrative Site facilities would become available for overnight rental in the summer of 2014.

ADDRESSES: Allen Rowley, Acting Forest Supervisor, Manti-La Sal National Forest, 599 West Price River Drive, Price, Utah 84501

FOR FURTHER INFORMATION CONTACT: Ann King, Public Service Group Leader, 435-636-3535 or email at aking@fs.fed.us. Information about the proposed new fees can also be found on the Manti-La Sal National Forest Web site: http://www.fs.usda.gov/mantilasal/.

SUPPLEMENTARY INFORMATION: The Federal Recreation Lands Enhancement Act (Title VII, Pub. L. 108-447) directed the Secretary of Agriculture to publish a six month advance notice in the Federal Register whenever new recreation fee areas are established. This new fee will be reviewed by the Utah Bureau of Land Management Recreation Resource Advisory Council (RRAC) prior to final decision and implementation by the Regional Forester, Intermountain Region, USDA Forest Service.

People wanting to reserve Orange Olsen Dwelling or Bunkhouse would need to do so through the National Recreation Reservation Service (NRRS), at www.recreation.gov or by calling 1-877-444-6777 when it becomes available. The NRRS charges a $9 fee for internet reservations and $10 fee for phone reservations.

Dated: July 9, 2013.
Allen Rowley,
Acting Forest Supervisor.

[FR Doc. 2013-17028 Filed 7-15-13; 8:45 am]

BILLING CODE 3410-11-P